DEPARTMENT OF DEFENSE

Department of the Army

[Docket ID: USA-2019-HQ-0014]

Privacy Act of 1974; System of Records

AGENCY: Department of the Army, DoD.

ACTION: Rescindment of a system of records notice.

SUMMARY: The Department of the Army is rescinding a system of records notice, Uniformed Services Identification Card, A0600-8-14 AHRC. These files are covered by the DoD wide system of records notice, Defense Enrollment Eligibility Reporting Systems (DEERS), DMDC 02 DoD.

DATES: This action will be effective April 10, 2019. The specific date for when this system ceased to be a Privacy Act System of Records is June 5, 2018.

FOR FURTHER INFORMATION CONTACT: Ms. Tracy Rogers, Department of the Army, Privacy Office, U.S. Army Records Management and Declassification Agency, 7701 Telegraph Road, Casey Building, Suite 144, Alexandria, VA 22325-3905 or by phone at (703) 428-7499.

SUPPLEMENTARY INFORMATION: Based on a recent review of A0600-8-14 AHRC, Uniformed Services Identification Card, it has been determined the records are covered under and are maintained in accordance with DMDC 02 DoD, Defense Enrollment Eligibility Reporting Systems (DEERS) (July 27, 2016, 81 FR 49210), a DoD-wide system notice and this system of records is duplicative.

The Department of the Army systems of records notices subject to the Privacy Act of 1974, as amended, have been published in the Federal Register and are available from the address in FOR FURTHER INFORMATION CONTACT or at the Defense Privacy, Civil Liberties, and Transparency Division website at http://dpcld.defense.gov/privacy. The proposed systems reports, as required by the Privacy Act of 1974, as amended, were submitted on February 6, 2019, to the House Committee on Oversight and Government Reform, the Senate Committee on Homeland Security and Governmental Affairs, and the Office of Management and Budget (OMB) pursuant to Section 6 to OMB Circular No. A-108, “Federal Agency Responsibilities for Review, Reporting, and Publication under the Privacy Act,” revised December 23, 2016 (December 23, 2016, 81 FR 94424).

SYSTEM NAME AND NUMBER:

Uniformed Services Identification Card, A0600-8-14 AHRC.

HISTORY:

March 27, 2013, 78 FR 18570.

Dated: April 5, 2019.
Aaron T. Siegel,
Alternate OSD Federal Register Liaison Officer, Department of Defense.

[FR Doc. 2019-07065 Filed 4-9-19; 8:45 am]

BILLING CODE 5001-06-P